DEPARTMENT OF ENERGY

Federal Energy Regulatory Commission

Combined Notice of Filings # 1

Take notice that the Commission received the following electric rate filings:

Docket Numbers: ER24-952-001.

Applicants:Alabama Power Company, Georgia Power Company, Mississippi Power Company.

Description: Tariff Amendment: Alabama Power Company submits tariff filing per 35.17(b): Horus Georgia 2 (Coweta Solar) LGIA Deficiency Response to be effective 1/10/2024.

Filed Date: 4/18/24.

Accession Number: 20240418-5084.

Comment Date: 5 p.m. ET 5/9/24.

Docket Numbers: ER24-1071-002.

Applicants: Consumers Energy Company.

Description: Tariff Amendment: Further Amended Contract-RS with Alpena Pwr. Co (ER24-1071-) to be effective 4/1/2024.

Filed Date: 4/18/24.

Accession Number: 20240418-5074.

Comment Date: 5 p.m. ET 5/9/24.

Docket Numbers: ER24-1306-001.

Applicants: Windy Flats Partners, LLC.

Description: Tariff Amendment: Windy Flats Filing to be effective 4/22/2024.

Filed Date: 4/18/24.

Accession Number: 20240418-5065.

Comment Date: 5 p.m. ET 5/9/24.

Docket Numbers: ER24-1717-001.

Applicants: PJM Interconnection, L.L.C.

Description: Tariff Amendment: Amendment of Amended ISA, SA No. 4401; Queue No. AA1-095 to be effective 1/25/2016.

Filed Date: 4/18/24.

Accession Number: 20240418-5146.

Comment Date: 5 p.m. ET 5/9/24.

Docket Numbers: ER24-1782-000.

Applicants: Alabama Power Company, Georgia Power Company, Mississippi Power Company.

Description: § 205(d) Rate Filing: Alabama Power Company submits tariff filing per 35.13(a)(2)(iii: Hall Creek Solar LGIA Filing to be effective 4/5/2024.

Filed Date: 4/18/24.

Accession Number: 20240418-5085.

Comment Date: 5 p.m. ET 5/9/24.

Docket Numbers: ER24-1783-000.

Applicants: Midcontinent Independent System Operator, Inc.

Description: § 205(d) Rate Filing: 2024-04-18_SA 4276 NIPSCO-Monroe Power GIA (J1355) to be effective 6/18/2024.

Filed Date: 4/18/24.

Accession Number: 20240418-5086.

Comment Date: 5 p.m. ET 5/9/24.

Docket Numbers: ER24-1784-000.

Applicants: Tri-State Generation and Transmission Association, Inc.

Description: § 205(d) Rate Filing: Initial Filing of Rate Schedule FERC No. 369 to be effective 5/2/2024.

Filed Date: 4/18/24.

Accession Number: 20240418-5107.

Comment Date: 5 p.m. ET 5/9/24.

Docket Numbers: ER24-1785-000.

Applicants: MPower Energy NJ LLC.

Description: Baseline eTariff Filing: MPE_NJ_FERC_Application to be effective 5/18/2024.

Filed Date: 4/18/24.

Accession Number: 20240418-5116.

Comment Date: 5 p.m. ET 5/9/24.

Docket Numbers: ER24-1786-000.

Applicants: Tri-State Generation and Transmission Association, Inc.

Description: Tariff Amendment: Notice of Cancellation of Rate Schedule FERC No. 216 to be effective 6/17/2024.

Filed Date: 4/18/24.

Accession Number: 20240418-5120.

Comment Date: 5 p.m. ET 5/9/24.

Docket Numbers: ER24-1787-000.

Applicants: H.A. Wagner LLC.

Description: § 205(d) Rate Filing: RMR Arrangement—Continuing Operations Rate Schedule to be effective 6/18/2024.

Filed Date: 4/18/24.

Accession Number: 20240418-5128.

Comment Date: 5 p.m. ET 5/9/24.

Docket Numbers: ER24-1788-000.

Applicants: Dogwood Energy LLC.

Description: § 205(d) Rate Filing: Amendment to Rate Schedule to be effective 4/19/2024.

Filed Date: 4/18/24.

Accession Number: 20240418-5140.

Comment Date: 5 p.m. ET 5/9/24.

Docket Numbers: ER24-1789-000.

Applicants: Avista Corporation.

Description: § 205(d) Rate Filing: Avista RS T1224 Haymaker Cert of Concurrence to be effective 4/12/2024.

Filed Date: 4/18/24.

Accession Number: 20240418-5175.

Comment Date: 5 p.m. ET 5/9/24.

Docket Numbers: ER24-1790-000.

Applicants: Brandon Shores LLC.

Description: § 205(d) Rate Filing: RMR Arrangement—Continuing Operations Rate Schedule to be effective 6/18/2024.

Filed Date: 4/18/24.

Accession Number: 20240418-5176.

Comment Date: 5 p.m. ET 5/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 18, 2024.
Debbie-Anne A. Reese,
Acting Secretary.

[FR Doc. 2024-08781 Filed 4-23-24; 8:45 am]

BILLING CODE 6717-01-P